DEPARTMENT OF THE INTERIOR

National Park Service

[NPS-WASO-NRNHL-DTS#-32819; PPWOCRADI0, PCU00RP14.R50000]

National Register of Historic Places; Notification of Pending Nominations and Related Actions

AGENCY: National Park Service, Interior.

ACTION: Notice.

SUMMARY: The National Park Service is soliciting electronic comments on the significance of properties nominated before October 2, 2021, for listing or related actions in the National Register of Historic Places.

DATES: Comments should be submitted electronically by October 28, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before October 2, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ALABAMA

Baldwin County

CLOTILDA (schooner), Address Restricted, Mobile vicinity, SG100007119

FLORIDA

Monroe County

Crane Point, 5550 Overseas Hwy., Marathon, SG100007123

IDAHO

Kootenai County

Hamilton, Boyd and Alta, House, 627 North Government Way, Coeur d'Alene, SG100007118

MARYLAND

Dorchester County

Phillips Packing Company Plant F, 411A Dorchester Ave., Cambridge, SG100007122

MONTANA

Flathead County

Kruse, Billy, Cabin, 15920 North Fork Rd., Polebridge vicinity, SG100007131

NEW YORK

Monroe County

Leander McCord Houses Historic District, 249, 259, 267, 275, and 285 Maplewood Dr., Rochester, SG100007111

SOUTH DAKOTA

Minnehaha County

Fauske, Ole E., House, 26003 482nd Ave., Corson, SG100007110

TENNESSEE

Lauderdale County

Lauderdale High School, 185 Spring St., Ripley, SG100007125

Marshall County

Dixie Theatre, 110 West Church St., Lewisburg, SG100007126

Shelby County

Hanley, Daniel, House, (Residential Resources of Memphis MPS), 3023 Spottswood Ave., Memphis, MP100007127

Sumner County

Parker's Chapel Missionary Baptist Church and Cemetery (Rural African-American Churches in Tennessee MPS), 387 Airport Rd., Portland, MP100007121

WISCONSIN

La Crosse County

Caledonia Street Commercial Historic District, Both sides of Caledonia St. between Clinton and St. Paul Sts., La Crosse, SG100007132

Manitowoc County

Kiel Mill, 11 East Fremont St., Kiel, SG100007129

Milwaukee County

TRANSFER (self-unloading barge) Shipwreck (Great Lakes Shipwreck Sites of Wisconsin MPS), 6 mi. SE of the Milwaukee Harbor Breakwater Lighthouse in L. Michigan, Milwaukee vicinity, MP100007124

A request for removal has been made for the following resources:

TENNESSEE

Anderson County

Brannon, Luther, House (Oak Ridge MPS), 151 Oak Ridge Tpk., Oak Ridge, OT91001108

Blount County

McNutt-McReynolds House (Blount County MPS), 803 West Broadway Ave., Maryville, OT89000901

Cocke County

Beechwood Hall, North of Newport on Rankin Rd., Newport vicinity, OT75001741

Coffee County

Manchester Cumberland Presbyterian Church, Jct. of Church and West High Sts., Manchester, OT92000781

Hamilton County

Trinity Methodist Episcopal Church (Hunt, Reuben H., Buildings in Hamilton County TR), McCallie Ave., Chattanooga, OT80003826

Tipton County

Price, Dr. Thomas H., House, 620 North Main St., Covington, OT15000118

Nomination submitted by Federal Preservation Officer:

The State Historic Preservation Officer reviewed the following nomination and responded to the Federal Preservation Officer within 45 days of receipt of the nomination and supports listing the property in the National Register of Historic Places.

MASSACHUSETTS

Suffolk County

John F. Kennedy Federal Building, 15 New Sudbury St., Boston, SG100007130

Authority: Section 60.13 of 36 CFR part 60.

Dated: October 5, 2021.
Sherry A. Frear,
Chief, National Register of Historic Places/National Historic Landmarks Program.

[FR Doc. 2021-22186 Filed 10-12-21; 8:45 am]

BILLING CODE 4312-52-P